DEPARTMENT OF HEALTH AND HUMAN SERVICES

Administration for Children and Families

Administration on Children, Youth and Families

AGENCY: Family and Youth Services Bureau, ACYF, ACF, DHHS.

ACTION: Notice to award supplemental grants.

CFDA#: 93.592.

Legislative Authority: Family Violence Prevention and Services Act (42 U.S.C. 10401 et seq.)

Amount of Award: $145,000.

Project Period: September 30, 2008-March 31, 2009.

SUMMARY: This notice announces that the Administration on Children, Youth and Families, Family and Youth Services Bureau (FYSB), will award a program expansion supplement to the National Latino Alliance for the Elimination of Domestic Violence (NLAEDV), in New York, NY. The additional funds will enable the grantee to continue the provision of technical support through the Family Violence Prevention and Services Discretionary Grant Program. The NLAEDV has provided national-level training and has developed guidelines and training tools that are culturally proficient for services to Latino victims and survivors of domestic violence and their families. The supplemental award will support the dissemination of products and curriculum developed by NLAEDV through training for State Domestic Violence Coalitions and their member programs, presentations at national conferences, targeted education and outreach efforts, and technical assistance.

FOR FURTHER INFORMATION CONTACT: Marylouise Kelley, Director, Family Violence Prevention and Services Program, 1250 Maryland Avenue, SW., Washington, DC 20024. Telephone: 202-401-5756. E-mail: marylouise.kelley@acf.hhs.gov.

Dated: September 29, 2008.
Joan E. Ohl,
Commissioner, Administration on Children, Youth and Families.

[FR Doc. E8-23480 Filed 10-3-08; 8:45 am]

BILLING CODE 4184-01-P